COMMISSION ON CIVIL RIGHTS

Notice of Public Meeting of the Missouri Advisory Committee for a Meeting To Discuss Matters Related To Its Project on Police—Community Relations in Missouri

AGENCY: U.S. Commission on Civil Rights.

ACTION: Notice of meeting.

SUMMARY: Notice is hereby given, pursuant to the provisions of the rules and regulations of the U.S. Commission on Civil Rights (Commission) and the Federal Advisory Committee Act that the Missouri Advisory Committee (Committee) will hold a meeting on Friday, March 27, 2015, at 12 p.m. until 1 p.m. The purpose of the meeting is to discuss and vote on an advisory memorandum to the Commission based on testimony heard at the February 23, 2015, meeting in St. Louis; discuss the advisory committee survey regarding the February 23 meeting; and begin discussions on the logistics and agenda for the upcoming Kansas City meeting.

Members of the public can listen to the discussion. This meeting is available to the public through the following toll-free call-in number: 888-539-3696, conference ID: 6375577. Any interested member of the public may call this number and listen to the meeting. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and conference ID number.

Member of the public are also entitled to submit written comments; the comments must be received in the regional office by March 27, 2015. Written comments may be mailed to the Midwestern Regional Office, U.S. Commission on Civil Rights, 55 W. Monroe St., Suite 410, Chicago, IL 60615. They may also be faxed to the Commission at (312) 353-8324, or emailed to Carolyn Allen at callen@usccr.gov. Persons who desire additional information may contact the Midwestern Regional Office at (312) 353-8311.

Records generated from this meeting may be inspected and reproduced at the Midwestern Regional Office, as they become available, both before and after the meeting. Records of the meeting will be available via www.facadatabase.gov under the Commission on Civil Rights, Missouri Advisory Committee link. Persons interested in the work of this Committee are directed to the Commission's Web site, http://www.usccr.gov, or may contact the Midwestern Regional Office at the above email or street address.

Agenda

Welcome

12 p.m. to 12:05 p.m.

S. David Mitchell, Chairman, Missouri Advisory Committee

Discussion and vote on advisory memorandum

12:05 p.m. to 12:30 p.m.

Discussion of advisory committee survey

12:30 p.m. to 12:45 p.m.

Planning for Kansas City meeting

12:45 p.m. to 1 p.m.

Adjournment

1 p.m.

DATES: The meeting will be held on Friday, March 27, 2015, at 12 p.m. CST.

Public Call Information:

Dial: 888-539-3696.

Conference ID: 6375577.

Exceptional Circumstance: Pursuant to 41 CFR 102-3.150, the notice for this meeting is given less than 15 calendar days prior to the meeting because of the exceptional circumstances of technical difficulties occurring in the process of having the meeting notice signed and sent to the Federal Register.

Dated: March 13, 2015.
David Mussatt,
Chief, Regional Programs Unit.

[FR Doc. 2015-06201 Filed 3-17-15; 8:45 am]

BILLING CODE 6335-01-P